ENVIRONMENTAL PROTECTION AGENCY

[FRL-8024-8]

Adequacy of Illinois Municipal Solid Waste Landfill Program

AGENCY: Environmental Protection Agency (EPA).

ACTION: Notice of Final Determination of Adequacy.

SUMMARY: The U.S. Environmental Protection Agency (EPA) Region 5 is approving a modification to Illinois' approved municipal solid waste landfill (MSWLF) permit program. The modification allows the State to issue research, development and demonstration (RD&D) permits to owners and operators of MSWLF units in accordance with its state law and regulations.

DATES: This final determination is effective January 25, 2006.

FOR FURTHER INFORMATION CONTACT: Donna Twickler, Waste Management Branch (Mail code DW-8J), U.S. EPA Region 5, 77 West Jackson Boulevard, Chicago, Illinois 60604, telephone (312) 886-6184, twickler.donna@epa.gov.

SUPPLEMENTARY INFORMATION:

A. Background

On March 22, 2004, U.S. EPA issued a final rule amending the municipal solid waste landfill criteria in 40 CFR part 258 to allow for research, development and demonstration (RD&D) permits (69 FR 13242). This rule allows for variances from specified criteria for a limited period of time, to be implemented through state-issued RD&D permits. RD&D permits are only available in states with approved MSWLF permit programs which have been modified to incorporate RD&D permit authority. While States are not required to seek approval for this new provision, those States that are interested in providing RD&D permits to owners and operators of MSWLFs must seek approval from U.S. EPA before issuing such permits. Approval procedures for new provisions of 40 CFR Part 258 are outlined in 40 CFR 239.12.

Illinois MSWLF permit program was approved on January 3, 1994 (59 FR 86). On September 21, 2005, Illinois applied for approval of its RD&D permit provisions. Illinois submitted its rules under R05-1 for review. On November 23, 2005, EPA published a Notice of proposed determination of adequacy of Illinois RD&D permit requirements (70 FR 70841). The notice provided a public comment period that ended on December 23, 2005. No comments were received during the comment period. Today's final action determines that Illinois RD&D permit provisions as defined under Illinois rule R05-1 are adequate to ensure compliance with the Federal criteria as defined at 40 CFR 258.4.

Authority: This action is issued under the authority of section 2002, 4005 and 4010(c) of the Solid Waste Disposal Act, as amended, 42 U.S.C. 6912, 6945 and 6949(a).

Dated: January 13, 2006.
Bharat Mathur,
Acting Regional Administrator, Region 5.

[FR Doc. E6-925 Filed 1-24-06; 8:45 am]

BILLING CODE 6560-50-P